NATIONAL SCIENCE FOUNDATION

Sunshine Act Meeting

AGENCY HOLDING MEETING: National Science Foundation, National Science Board.

DATE AND TIME:

August 9, 2001: 12:00 Noon-12:30 p.m.—Closed Session

August 9, 2001: 1:00 p.m.-3:30 p.m.— Closed Session

August 9, 2001: 3:30 p.m.-5:00 p.m.—Open Session

PLACE: The National Science Foundation, Room 1235, 4201 Wilson Boulevard, Arlington, VA 22230, www.nsf.gov/nsb.

STATUS: Part of this meeting will be closed to the public. Part of this meeting will open to the public.

Matters To Be Considered:

Thursday, August 9, 2001

Closed Session (12 Noon-12:30 p.m.)

—Closed Session Minutes, May, 2001

—NSB Member Proposals

Closed Session (1:00 p.m.-3:30 p.m.)

—Awards and Agreements

—NSF FY 03 Budget

Open Session (3:30 p.m.-5:00 p.m.)

—Open Session Minutes, May, 2001

—Closed Session Items for October, 2001

—Chairman's Report

—Director's Report

—Presentation: Urban Systemics Evaluation

—S&E Indicators 2002 Review

—Committee Reports

—Other Business

Marta Cehelsky,
Executive Officer.

[FR Doc. 01-19427 Filed 7-31-01; 11:34 am]

BILLING CODE 7555-01-M